ADMINISTRATIVE CONFERENCE OF THE UNITED STATES

Notice of Public Meeting of the Assembly of the Administrative Conference of the United States

AGENCY: Administrative Conference of the United States.

ACTION: Notice.

SUMMARY: Pursuant to the Federal Advisory Committee Act (5 U.S.C. App.), the Assembly of the Administrative Conference of the United States will hold a meeting to consider four proposed recommendations and to conduct other business. This meeting will be open to the public.

DATES: The meeting will take place on Thursday, June 14, 2018, 1:00 p.m. to 5:15 p.m.; and Friday, June 15, 2018, 9:00 a.m. to 11:45 a.m. The meeting may adjourn early if all business is finished.

ADDRESSES: The meeting will be held at The George Washington University Law School, 2000 H Street NW, Washington, DC 20052 (Jacob Burns Moot Court Room).

FOR FURTHER INFORMATION CONTACT: Shawne McGibbon, General Counsel (Designated Federal Officer), Administrative Conference of the United States, Suite 706 South, 1120 20th Street NW, Washington, DC 20036; Telephone 202-480-2088; email smcgibbon@acus.gov.

SUPPLEMENTARY INFORMATION: The Administrative Conference of the United States makes recommendations to federal agencies, the President, Congress, and the Judicial Conference of the United States regarding the improvement of administrative procedures (5 U.S.C. 594). The membership of the Conference, when meeting in plenary session, constitutes the Assembly of the Conference (5 U.S.C. 595).

Agenda: In addition to receiving updates on past, current, and pending Conference initiatives, the Assembly will consider four proposed recommendations as described below:

Paperwork Reduction Act Efficiencies. This proposed recommendation encourages collaboration between the Office of Information and Regulatory Affairs and federal agencies to maximize opportunities for making the information collection clearance process under the Paperwork Reduction Act more efficient, while still maintaining its integrity. The proposed recommendation encourages using generic clearances and common forms more frequently, providing more training to agencies, and improving several other aspects of the information collection clearance process.

Administrative Judges. This proposed recommendation addresses agency practices related to the use of administrative judges—adjudicators who preside over evidentiary hearings that are not governed by the adjudication provisions of the Administrative Procedure Act. It offers recommendations for agencies to consider when designing or evaluating adjudication programs that promote impartiality in administrative judges and increase clarity and transparency with respect to the policies and procedures that govern their selection, oversight, evaluation, discipline, and removal.

Minimizing the Cost of Judicial Review. This proposed recommendation encourages federal agencies that anticipate litigation over their rules to consider early in the rulemaking process whether a rule is severable, meaning divisible into portions that can and should function independently, and outlines steps agencies should take if they intend that portions of a rule should continue in effect even though other portions have been held unlawful on judicial review. It also encourages courts adjudicating a challenge to an agency rule to solicit the parties' views on the issue of severability in appropriate circumstances.

Electronic Case Management in Federal Administrative Adjudication. This proposed recommendation offers guidance for agencies considering whether and how to implement an electronic case management system. It provides factors for agencies to consider in weighing the costs and benefits of an electronic case management system; sets forth measures an agency should take to ensure privacy, transparency, and security; and describes ways an electronic case management system may improve adjudicatory processes.

Additional information about the proposed recommendations and the order of the agenda, as well as other materials related to the meeting, can be found at the 69th Plenary Session page on the Conference's website: https://www.acus.gov/meetings-and-events/plenary-meeting/69th-plenary-session.

Public Participation: The Conference welcomes the attendance of the public at the meeting, subject to space limitations, and will make every effort to accommodate persons with disabilities or special needs. Members of the public who wish to attend in person are asked to RSVP online at the 69th Plenary Session web page shown above, no later than two days before the meeting, in order to facilitate entry. Members of the public who attend the meeting may be permitted to speak only with the consent of the Chairman and the unanimous approval of the members of the Assembly. If you need special accommodations due to disability, please inform the Designated Federal Officer noted above at least 7 days in advance of the meeting. The public may also view the meeting through a live webcast, which will be available at: https://livestream.com/ACUS.

Written Comments: Persons who wish to comment on any of the proposed recommendations may do so by submitting a written statement either online by clicking “Submit a Comment” on the 69th Plenary Session web page shown above or by mail addressed to: June 2018 Plenary Session Comments, Administrative Conference of the United States, Suite 706 South, 1120 20th Street NW, Washington, DC 20036. Written submissions must be received no later than 10:00 a.m. (EDT), Thursday, June 7, to assure consideration by the Assembly.

Dated: May 22, 2018.
Shawne McGibbon,
General Counsel.

[FR Doc. 2018-11328 Filed 5-24-18; 8:45 am]

BILLING CODE 6110-01-P